DEPARTMENT OF THE INTERIOR

National Park Service

[NPS-WASO-NRNHL-DTS#-27870; PPWOCRADI0, PCU00RP14.R50000]

National Register of Historic Places; Notification of Pending Nominations and Related Actions

AGENCY: National Park Service, Interior.

ACTION: Notice.

SUMMARY: The National Park Service is soliciting comments on the significance of properties nominated before May 4, 2019, for listing or related actions in the National Register of Historic Places.

DATES: Comments should be submitted by May 31, 2019.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before May 4, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Santa Clara County

Fairglen Additions (Unit 1, Unit 2, and Unit 3), (Housing Tracts of Joseph Eichler in San Jose, 1952-1963 MPS), Booksin, Fairvalley, Fairhill, Fairwood, Fairlawn, Fairorchard, Fairdell, and Andalusia Aves., Fairlawn, Fairvalley, Fairoak, and Fairgrove Courts, and Fairglen Dr., San Jose, MP100004036

DISTRICT OF COLUMBIA

District of Columbia

Hardy, Rose Lee, School, (Public School Buildings of Washington, DC MPS), 1550 Foxhall Rd. NW, Washington, MP100004071

Potomac Electric Power Company Substation No. 13, 1001 Harvard St. NW, Washington, SG100004072

Potomac Electric Power Company Substation No. 25, 2119 Champlain St. NW, Washington, SG100004073

INDIANA

Dearborn County

ELIZABETH LEA (Towboat), 11042 St. Rd. 56, Lighthouse Point Yacht Club, Aurora vicinity, SG100004044

Elkhart County

Log Cabin Inn Tourist Camp, 68306 US 33, Benton, SG100004041

Hamilton County

Walden, Micajah, House, 3909 E 276th St., Atlanta vicinity, SG100004042

Henry County

Knightstown, Old, and Glen Cove Cemeteries, 8875 S State Rd. 109, Knightstown, SG100004046

Lake County

Gary Union Station, 251 N Broadway, Gary, SG100004040

Griffith State Bank, 101 E Main St., Griffith, SG100004050

Marion County

Riverside Drive Historic District, Bounded by W 29th St., N Harding St., W 21st St., and E Riverside Dr., Indianapolis vicinity, SG100004043

Owen County

Vandalia Methodist Episcopal Church and Vandalia School, (Indiana's Public Common and High Schools MPS), 5434 and 5465 Vandalia Rd., Vandalia, MP100004045

Vigo County

Terre Haute YMCA Building, 200 S 6th St., Terre Haute, SG100004047

Wayne County

Eliason Farm, 1594 N Eliason Rd., Centerville vicinity, SG100004048

Wells County

Bluffton Commercial Historic District, Roughly bounded by Wabash, Scott, Elm, and Marion Sts., Bluffton, SG100004049

MAINE

Cumberland County

Merriconeag Grange No. 425, 529 Harpswell Neck Rd., Harpswell, SG100004068

Walking Man Sign, 10 Hardy Rd., Westbrook, SG100004069

MASSACHUSETTS

Middlesex County

Keyes, Jonathon, Sr. House, 16 Frances Hill Rd., Westford, SG100004051

Plymouth County

New England Telephone and Telegraph Engineering Office, 47 Pleasant St., Brockton, SG100004052

MINNESOTA

Pipestone County

Jasper School Building, 100 N Hill Ave., Jasper, SG100004075

Rice County

Morristown Feed Mill, 205 Bloomer St. E, Morristown, SG100004074

MISSOURI

Jackson County

Moline Plow Company Building, (Railroad Related Historic Commercial and Industrial Resources in Kansas City, MO MPS), 1015 Mulberry St., Kansas City, MP100004065

Randolph County

Moberly Commercial Historic District (Boundary Increase, 106-316 N Clark, 101-120 E Coates, 101-549-W Coates, 110-214 N Fifth, 1011-101 S Fourth, 100 Hagood, 100-199 Johnson, 244 Moulton, 101-541 W Ree, 101-514 W Rollins, 100-101 N Sturgeon, 105-213 N Williams, Moberly, BC100004064

St. Clair County

Appleton City Downtown Commercial District, 100-200 E 4th St., 100-131 W 4th St., 201-306 N Walnut St., Appleton City, SG100004061

St. Louis Independent City

IBEW Building, 5850 Elizabeth Ave., St. Louis, SG100004062

St. Louis Globe-Democrat Building, 900 N Tucker Blvd., St. Louis, SG100004066

Trinity Episcopal Church, 600 N Euclid Ave., St. Louis, SG100004067

NEW JERSEY

Monmouth County

Players Boat Club, 925 River Rd., Fair Haven, SG100004058

NEW MEXICO

Bernalillo County

Parkland Hills Historic District, Roughly bounded by Zuni Rd., Garfield and Smith Aves, Valverde Dr., and Carlisle Blvd., Albuqerque, SG100004034

Santa Fe County

John Gaw Meem Architects Office, (Buildings Designed by John Gaw Meem MPS), 1101 Camino De Cruz Blanca, Santa Fe, MP100004030

Agua Fria Schoolhouse Site, Address Restricted, Santa Fe vicinity, SG100004033

OHIO

Ashland County

Ashland County Children's Home, 1260 Center St., Ashland, SG100004059

Ashtabula County

Ashtabula Post Office and Federal Building, 4400 Main Ave., Ashtabula, SG100004053

Franklin County

Open Air School, 2571 Neil Ave., Columbus, SG100004054

Uptown Westerville Historic District, State St., Bet. Home St. and Dill and Starrock Alleys, Westerville, SG100004055

L. Hoster Brewing Company, 477 Front St., Columbus, SG100004060

Summit County

Sisler, Dr. Louis, House, 675 N Portage Path, Akron, SG100004056

WASHINGTON

Kitsap County

Doe-Kag-Wats, 10435 NE Shore Dr., Kingston vicinity, SG100004076

WISCONSIN

Jefferson County

South Main Street Residential Historic District, 226-275 S Main St., 307-354 S Main St., Lake Mills, SG100004026

Mulberry Street Residential Historic District, 205 Oak St., 310-425 Mulberry St., 512 Mulberry St., Lake Mills, SG100004027

Sheboygan County

I.A. JOHNSON Shipwreck (Scow Schooner), (Great Lakes Shipwreck Sites of Wisconsin MPS), Address Restricted, Mosel vicinity, MP100004028

A request for removal has been made for the following resource:

ARIZONA

Maricopa County

Kaler House, 301 W Frier Dr., Phoenix, OT92001686

Additional documentation has been received for the following resources:

ARIZONA

Yavapai County

Clarkdale Historic District, Roughly along Main St., roughly bounded by Verde R. including industrial smelter site., Clarkdale, AD97001586

MISSOURI

Randolph County

Moberly Commercial Historic District, Roughly bounded by W. Coates, W. Rollins, N. Clark, & Johnson Sts., Moberly, AD12000592

OHIO

Lucas County

Fort Industry Square, Bounded by Summit, Monroe, and Water Sts. and Jefferson Ave., Toledo, AD73001501

WASHINGTON

Kitsap County

Old-Man-House Site (45KP2), Address Restricted, Suquamish vicinity, AD89002299

Nominations submitted by Federal Preservation Officers:

The State Historic Preservation Officer reviewed the following nominations and responded to the Federal Preservation Officer within 45 days of receipt of the nominations and supports listing the properties in the National Register of Historic Places.

ALASKA

Denali Borough

Mount McKinley National Park Road Historic District, Mile 237.3 George Parks Hwy., Denali Park vicinity, SG100004070

MONTANA

Jefferson County

Homestake Airway Beacon, (Sentinels of the Airways: Montana's Airway Beacon System, 1934-1979 MPS), Address Restricted, Butte vicinity, MP100004037

Authority: Section 60.13 of 36 CFR part 60.

Dated: May 6, 2019.
Kathryn G. Smith,
Acting Chief, National Register of Historic Places/National Historic Landmarks Program and Deputy Keeper of the National Register of Historic Places.

[FR Doc. 2019-10168 Filed 5-15-19; 8:45 am]

BILLING CODE 4312-52-P